DEPARTMENT OF HEALTH AND HUMAN SERVICES

Administration for Children and Families

Submission for OMB Review; Comment Request

Title: Performance Measures for Healthy Marriage and Promoting Responsible Fatherhood Grant Programs.

OMB No.: New Collection.

Description: The Office of Family Assistance (OFA), Administration for Children and Families (ACF), U.S. Department of Health and Human Services (HHS), intends to request approval from the Office of Management and Budget (OMB) for the collection of performance measures from grantees for the Healthy Marriage and Promoting Responsible Fatherhood discretionary grant programs. The performance measure data obtained from the grantees will be used by OFA to report on the overall performance of this grant program and to inform the Program Assessment Rating Tool (PART) process if the program is selected for PART review. Data will be collected from all 118 Healthy Marriage and 96 Responsible Fatherhood grantees in the OFA program. Grantees will report on program outputs and outcomes in such areas as participant's improvement in knowledge, skills, attitudes, and behaviors related to healthy marriage and responsible fatherhood. Grantees will be asked to input data for selected outputs and outcomes for activities funded under the grant. Grantees will extract data from program records and will report the data twice yearly through the ACF on-line data collection tool (OLDC). Training and assistance will be provided to grantees to support this data collection process.

Respondents: Office of Family Assistance Funded Healthy Marriage and Promoting Responsible Fatherhood Grantees.

Annual Burden Estimates
Instrument | Number of respondents | Number of responses per respondent | Average burden hours per response | Total burden hours
Performance measure reporting form | 214 | 2 | 0.80 | 342.40

Estimated Total Annual Burden Hours: 342.40.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: December 22, 2008.
Janean Chambers,
Reports Clearance Officer.

[FR Doc. E8-30833 Filed 12-24-08; 8:45 am]

BILLING CODE 4184-01-P